NUCLEAR REGULATORY COMMISSION

[NRC-2020-0192]

Consolidated Decommissioning Guidance, Characterization, Survey, and Determination of Radiological Criteria

AGENCY: Nuclear Regulatory Commission.

ACTION: NUREG; issuance.

SUMMARY: The U.S. Nuclear Regulatory Commission (NRC) is issuing NUREG-1757, Volume 2, Revision 2, “Consolidated Decommissioning Guidance, Characterization, Survey, and Determination of Radiological Criteria.” NUREG-1757 has been revised to address lessons learned and experience gained from review of license termination plans, decommissioning plans, and final status surveys for licensees undergoing license termination since the last revision to the document in September 2006. This NUREG is intended for use by applicants, licensees, and the NRC staff.

DATES: NUREG-1757, Volume 2, Revision 2 is available on July 22, 2022.

ADDRESSES: Please refer to Docket ID NRC-2020-0192 when contacting the NRC about the availability of information regarding this document. You may obtain publicly available information related to this document using any of the following methods:

• Federal Rulemaking Website: Go to https://www.regulations.gov and search for Docket ID NRC-2020-0192. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Cynthia Barr, Office of Nuclear Material Safety and Safeguards; U.S. Nuclear Regulatory Commission, Washington, DC 20555-0001; telephone: 301-415-4015; email: Cynthia.Barr@nrc.gov.

SUPPLEMENTARY INFORMATION:

I. Discussion

NUREG-1757, Volume 2, Revision 2 “Consolidated Decommissioning Guidance, Characterization, Survey, and Determination of Radiological Criteria” (ML22194A859) was revised to address lessons learned and experience gained from review of license termination plans, decommissioning plans, and final status surveys for licensees undergoing license termination. The NUREG was updated to include new guidance related to dose modeling, as low as reasonably achievable criteria, surface water and groundwater characterization, use of engineered barriers, and radiological surveys (e.g., composite sampling, subsurface surveys, and surveys demonstrating indistinguishability from background).

Following issuance of NUREG-1757, Volume 2, Revision 2, NRC staff intends to develop interim staff guidance to address issues raised during the public comment period related to: (i) subsurface investigations; and guidance or communications related to (ii) discrete radioactive particles. NRC staff held two subsurface investigations workshops on July 14-15, 2021, and May 11, 2022, to support the development of interim staff guidance. A public workshop to support development of guidance or communications on discrete radioactive particles is planned for November 3, 2022. Additional details regarding the November 3, 2022, workshop, will be forthcoming.

The regulatory analysis for Revision 2 of NUREG-1757, “Consolidated Decommissioning Guidance,” Volume 2, “Characterization, Survey, and Determination of Radiological Criteria” is available in ADAMS under ML21347A957.

II. Additional Information

Draft NUREG-1757, Volume 2, Revision 2 “Consolidated Decommissioning Guidance, Characterization, Survey, and Determination of Radiological Criteria” was published in the Federal Register (85 FR 79044) on December 8, 2020, with a 60-day comment period. On January 22, 2021, (86 FR 6683) the NRC decided to extend the comment period until April 8, 2021. Over 200 comments were received on the draft document and the NRC staff's evaluation and resolution of the public comments are documented in ADAMS under ML21299A032. NRC staff addressed the public comments in the final version of the document.

III. Congressional Review Act

NUREG-1757, Volume 2, Revision 2, is a rule as defined in the Congressional Review Act (5 U.S.C. 801-808). However, the Office of Management and Budget has not found it to be a major rule as defined in the Congressional Review Act. The Congressional Review Act Summary is available in ADAMS under ML21349B406.

For the Nuclear Regulatory Commission.
Dated: July 18, 2022.
Ashley B. Roberts,
Deputy Director, Division of Decommissioning, Uranium Recovery, and Waste Programs, Office of Nuclear Material Safety and Safeguards.

[FR Doc. 2022-15646 Filed 7-21-22; 8:45 am]

BILLING CODE 7590-01-P